PEACE CORPS

Information Collection Request Submission for OMB Review; Correction

AGENCY: Peace Corps.

ACTION: Action/correction.

SUMMARY: The Peace Corps published a document in the Federal Register of September 15, 2016, concerning request for comments on information collection request submission for OMB Review. The document contained the incorrect action.

FOR FURTHER INFORMATION CONTACT: Denora Miller, 202-692-1236.

Correction:

In the Federal Register of September 15, 2016, in FR Doc. 2016-22142, on page 1, in the second row, correct the “Action” caption to read:

ACTION: 30-Day notice and request for comments.

Dated: November 3, 2016.
Monique Harris,
FOIA/Privacy Act Specialist, Management.

[FR Doc. 2016-26945 Filed 11-7-16; 8:45 am]

BILLING CODE 6051-01-P